DEPARTMENT OF LABOR

Employment and Training Administration

[NAFTA-3554]

Marathon Ashland Pipe Line LLC, Bridgeport, IL; Notice of Negative Determination Regarding Application for Reconsideration

By applications dated December 22, 1999 and January 3, 2000 Petitioners requested administrative reconsideration of the Department's negative determination regarding eligibility for workers of the subject firm to apply for North American Free Trade Agreement—Transitional Adjustment Assistance (NAFTA—TAA). The denial notice applicable to workers of Marathon Ashland Pipe Line LLC, transporting crude oil and petroleum products via pipeline in Bridgeport, Illinois, was signed on December 2, 1999 and published in the Federal Register on December 28, 1999 (64 FR 72693).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petitioners assert that the workers in Bridgeport were gaugers for the subject firm and tested the oil before it could be transported into the pipeline. The petitioners also assert that the crude oil acquisition department of Marathon Oil Company (the parent company of the subject firm) worked directly with and set the perimeters for the acceptance or rejection of the crude oil. The petitioner also states that layoffs at the subject firm were caused by a reduced demand for services by the parent company.

The denial of NAFTA-TAA for workers of Marathon Ashland Pipe Line LLC, Bridgeport, Illinois, was based on the finding that the workers provided a service and did not produce an article within the meaning of Section 250(a) of the Trade Act of 1974, as amended. The petition investigation revealed that the primary reason for the worker layoffs was attributable to the asset sale to another company.

Service workers may be certified for NAFTA-TAA only if there is a reduced demand for their services from a parent firm, a firm otherwise related to the subject firm by ownership, or a firm related by control. There are no NAFTA-TAA certifications for Marathon Oil Company workers.

Conclusion

After review of the application and investigative findings, I conclude that there has been no error or misinterpretation of the law or of the facts which would justify reconsideration of the Department of Labor's prior decision. Accordingly, the application is denied.

Signed at Washington, D.C. this 16th day of February 2000.
Grant D. Beale,
Program Manager, Division of Trade Adjustment Assistance.

[FR Doc. 00-6380 Filed 3-14-00; 8:45 am]

BILLING CODE 4510-30-M